FEDERAL MARITIME COMMISSION

Ocean Transportation Intermediary License Reissuances

Notice is hereby given that the following Ocean Transportation Intermediary licenses have been reissued by the Federal Maritime Commission pursuant to section 19 of the Shipping Act of 1984, (46 U.S.C. app. 1718) and the regulations of the Commission pertaining to the licensing of Ocean Transportation Intermediaries, 46 CFR part 515.

License No. | Name/address | Date reissued
015565N | International Equipment Logistics, Inc., 210 E. Essex Avenue, Avenel, NJ 07002. | July 21, 2006.
002279NF | Master Forwarding Network, Inc. dba Transoceanic Container Lines, 3250 Wilshire Blvd., #111, Los Angeles, CA 90010. | September 14, 2006.
004367F | Sumikin International Transport (U.S.A.), dba SITRA, 2180 South Wolf Road, Des Plaines, IL 60018 | July 19, 2006

Sandra L. Kusumoto,
Director, Bureau of Certification and Licensing.

[FR Doc. E6-16396 Filed 10-3-06; 8:45 am]

BILLING CODE 6730-01-P